DEPARTMENT OF THE INTERIOR

Fish and Wildlife Service

Draft Comprehensive Conservation Plan and Environmental Impact Statement for the Driftless Area National Wildlife Refuge: Allamakee, Clayton, Delaware, Dubuque and Jackson Counties, IA; Grant and Richland Counties, WI; and Jo Daviess County, IL

AGENCY: Fish and Wildlife Service, Interior.

ACTION: Notice of availability.

SUMMARY: The U.S. Fish and Wildlife Service announces that the Draft Comprehensive Conservation Plan (CCP), Environmental Impact Statement (EIS) and Land Protection Plan is available for Driftless Area National Wildlife Refuge (NWR) in Illinois, Iowa, and Wisconsin.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: Comments on the Draft CCP/EIS must be received on or before July 22, 2005.

ADDRESSES: Copies of the Draft CCP/EIS are available on compact disk or hard copy. You may access and download a copy via the planning Web site (http://fws.gov/midwest/planning/DriftlessArea/index.html) or you may obtain a copy by writing to the following address: U.S. Fish and Wildlife Service, Division of Conservation Planning, Bishop Henry Whipple Federal Building, 1 Federal Drive, Fort Snelling, Minnesota 55111.

All comments should be addressed to Driftless Area National Wildlife Refuge, Attention: CCP Comment, P.O. Box 460, McGregor, Iowa 55987 or direct e-mail to r3planning@fws.gov. Comments may also be submitted through the Service's regional Web site at http://fws.gov/midwest/planning/

FOR FURTHER INFORMATION CONTACT: John Lindell or Cathy Henry at (563) 873-3423.

SUPPLEMENTARY INFORMATION: The Driftless Area National Wildlife Refuge was established in 1989 to protect habitat for the threatened northern monkshood plant and endangered Iowa Pleistocene snail. The Refuge was authorized to acquire land in eight counties of northeast Iowa, northwest Illinois, and southwest Wisconsin. The Refuge is situated within the driftless geologic land form, an area never glaciated or missed by the most recent glacial advance.

Refuge land conservation focuses on conservation of algific (cold producing) talus slope systems, a landform/habitat feature unique to karst terrain that provides cold microclimate required by northern monkshood, Pleistocene snails, and other glacial relict species. Refuge land conservation consists of acquisition and management easements. Driftless Area NWR now consists of 781 acres within nine units in four northeastern Iowa counties. The Draft CCP/EIS preferred alternative, and integrated Draft Land Protection Plan, proposes conservation of additional lands (through fee title purchase from willing sellers, or other means, such as management easements) in the counties initially authorized, and proposes conservation of suitable habitat in five additional counties in Iowa, four additional counties in Wisconsin, and five counties in Minnesota. Additional information about the target species gained since listing, and the listing of Leedy's roseroot, which occupies similar habitat in southeast Minnesota, indicate the need to increase the geographic area of conservation.

The plan addresses four primary issues identified by the public and Refuge: (1) Habitat management; (2) visitor services; (3) refuge expansion; and (4) species assessments. The EIS evaluates three alternatives for future management of the Driftless Area NWR. The preferred alternative calls for ultimately acquiring 6,000 additional acres. Over the next 15 years we would permanently conserve 2,275 of these acres within 22 counties in Iowa, Illinois, Minnesota, and Wisconsin. Under the preferred alternative we would achieve endangered species recovery and conservation of other species of concern, multiple recovery goals for delisting of the Iowa Pleistocene snail through increased habitat management, and a carefully monitored increase in environmental education and wildlife observation programs.

The National Wildlife Refuge System Administration Act of 1966, as amended by the National Wildlife Refuge System Improvement Act of 1997 (16 U.S.C. 668dd-668ee et seq) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: March 7, 2005.
Charles M. Wooley,
Acting Regional Director, U.S. Fish and Wildlife Service, Ft. Snelling, Minnesota.

[FR Doc. 05-9986 Filed 5-18-05; 8:45 am]

BILLING CODE 4310-55-P